FEDERAL RESERVE SYSTEM

Change in Bank Control Notices; Acquisition of Shares of Bank or Bank Holding Companies

The notification listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 13, 2009.

A. Federal Reserve Bank of St. Louis (Glenda Wilson, Community Affairs Officer) 411 Locust Street, St. Louis, Missouri 63166-2034:

1. Charles B. Edel, Trustee of the Charles B. Edel Trust, and Suzanne Edel, Trustee of the Suzanne Edel Trust, both of Springfield, Missouri; acting in concert to increase control of Citizens National Bancorp Inc., Springfield, Missouri and thereby acquire control of Citzens National Bank of Springfield, Springfield, Missouri.

B. Federal Reserve Bank of Kansas City (Todd Offerbacker, Assistant Vice President) 925 Grand Avenue, Kansas City, Missouri 64198-0001:

1. David Carpenter, Chandler, Oklahoma as Trustee of the Lynda L. Cameron 2005 Family Trust, the William M. Cameron 2004 Family Trust, and the Lynda L. Cameron Trust B; to acquire control of First Fidelity Bancorp, Inc., Oklahoma City, Oklahoma, and thereby indirectly acquire control of First Fidelity Bank, National Association, Oklahoma City, Oklahoma.

2. Richard Kevin Chase, Derby, Kansas and Peter Cran Chase, Eastborough, Kansas; to acquire control of First Team Resources Corporation, Derby, Kansas, and thereby indirectly acquire control of Verus Bank National Association, Derby, Kansas.

C. Federal Reserve Bank of Dallas (W. Arthur Tribble, Vice President) 2200 North Pearl Street, Dallas, Texas 75201-2272:

1. James Edward Baxter,II, Richmond Virginia; to acquire shares of Premier Banchsares, Inc., McKinney, Texas, and thereby indirectly acquire control of Synergy Bank, SSB McKinney, Texas.

Board of Governors of the Federal Reserve System, June 23, 2009.
Robert deV. Frierson,
Deputy Secretary of the Board.

[FR Doc. E9-15172 Filed 6-25-09; 8:45 am]

BILLING CODE 6210-01-S